SECURITIES AND EXCHANGE COMMISSION

[Release No. 34-48193; File No. SR-PCX-2003-33]

Self-Regulatory Organizations; Notice of Filing and Immediate Effectiveness of Proposed Rule Change by the Pacific Exchange, Inc. Relating to Minor Rule Plan Housekeeping Changes

July 17, 2003.

Pursuant to section 19(b)(1) of the Securities Exchange Act of 1934 (“Act”) ¹ and Rule 19b-4 thereunder,² notice is hereby given that on July 8, 2003, the Pacific Exchange, Inc. (“PCX” or “Exchange”) filed with the Securities and Exchange Commission (“Commission”) the proposed rule change as described in Items I, II, and III below, which Items have been prepared by the Exchange. The Commission is publishing this notice to solicit comments on the proposed rule change from interested persons.

¹ 15 U.S.C. 78s(b)(1).

² 17 CFR 240.19b-4.

I. Self-Regulatory Organization's Statement of the Terms of Substance of the Proposed Rule Change

The Exchange is proposing to amend the Exchange's Minor Rule Plan (“MRP”) and Recommended Fine Schedule (“RFS”) (PCX Rule 10.13) in order to make a number of non-substantive and technical changes. The text of the proposed rule changes is available at the PCX and at the Commission.

II. Self-Regulatory Organization's Statement of the Purpose of, and Statutory Basis for, the Proposed Rule Change

In its filing with the Commission, the PCX included statements concerning the purpose of and basis for the proposed rule change, and discussed any comments it received on the proposed rule change. The text of these statements may be examined at the places specified in Item IV below. The Exchange has prepared summaries, set forth in sections A, B, and C below, of the most significant aspects of such statements.

A. Self-Regulatory Organization's Statement of the Purpose of, and Statutory Basis for, the Proposed Rule Change

1. Purpose

The Exchange is proposing to amend its MRP and RFS (PCX Rule 10.13) in order to make a number of non-substantive and technical changes. The Exchange also proposes to make minor conforming changes to various other rules where appropriate.

First, the Exchange proposes to amend PCX Rule 6.37(d) to correct a minor technical error. PCX Rule 6.37(d) states that formal disciplinary action may be taken if aggravating circumstances are found, pursuant to PCX Rule 10.3. The Exchange proposes to amend the text to reflect the correct rule number, which is “10.4”. Second, the Exchange proposes to amend PCX Rule 6.37(h)(6) so that the first sentence in the rule will read “action and suspension” instead of “action or suspension.” This was a technical error that the Exchange wishes to correct at this time.

Third, the Exchange proposes to correct a technical error in PCX Rules 10.13(h)(34) and 10.13(k)(i)(34). The text incorrectly references that PCX Rule 10.13(h)(34) is a violation of “Rule 6.87(d)(3)”. The Exchange wishes to amend the text to reflect the correct rule number, which is “Rule 6.87(e)(3)”. Fourth, the Exchange proposes to amend PCX Rule 6.89(b)(7), where the Exchange inadvertently used the acronym “PSE” instead of “PCX” in the rule text. Thus, the Exchange proposes to correct the technical error and replace the acronym PSE with the current acronym, PCX.

Fifth, the Exchange proposes to amend PCX Rules 10.13(h)(2) and 10.13(k)(i)(2) of the MRP and RFS. The purpose of this change is to replace the term “floor broker” with the term “member” in the text as the underlying rule violation (PCX Rule 6.67) is not limited to floor brokers and applies to all members. Sixth, the Exchange proposes to amend PCX Rule 10.13(e) in order to correct a technical error. Under the proposed amendment, the term “Compliance Department” will be replaced with the term “Corporate Secretary” as the latter is the correct office for this process at the Exchange.

Seventh, the Exchange proposes to amend PCX Rules 10.13(j)(1) and 10.13(k)(iii)(1) of the MRP and RFS. Under the proposed amendment, the rule referenced in the text, “Rule 10.2(c),” will be amended to reflect the correct corresponding rule number, which is “Rule 10.2(e).” Finally, the Exchange proposes to amend PCX Rules 10.13(j)(6) and 10.13(k)(iii)(6) of the MRP and RFS. Under the proposed rule change, the rule referenced in the text, “Rule 10.2(b),” will be amended to reflect the correct corresponding rule number, which is “Rule 10.2(d).”

2. Statutory Basis

The Exchange believes that the proposal is consistent with section 6(b) of the Act,³ in general, and section 6(b)(5) of the Act,⁴ in particular, in that it will promote just and equitable principles of trade; facilitate transactions in securities, remove impediments to and perfect the mechanisms of a free and open market and a national market system; and protect investors and the public interest. The proposal is also consistent with section 6(b)(6) of the Act,⁵ which requires that members and persons associated with members be appropriately disciplined for violations of Exchange rules.

³ 15 U.S.C. 78f(b).

⁴ 15 U.S.C. 78f(b)(5).

⁵ 15 U.S.C. 78f(b)(6).

B. Self-Regulatory Organization's Statement on Burden on Competition

The Exchange does not believe that the proposed rule change will impose any burden on competition that is not necessary or appropriate in furtherance of the purposes of the Act.

C. Self-Regulatory Organization's Statement on Comments on the Proposed Rule Change Received From Members, Participants or Others

Written comments on the proposed rule change were neither solicited nor received.

III. Date of Effectiveness of the Proposed Rule Change and Timing for Commission Action

The foregoing rule change has become effective pursuant to section 19(b)(3)(iii) of the Act ⁶ and subparagraph (f) Rule 19b-4 thereunder,⁷ because it is concerned solely with the administration of the Exchange. At any time within 60 days of the filing of such proposed rule change, the Commission may summarily abrogate such rule change if it appears to the Commission that such action is necessary or appropriate in the public interest, for the protection of investors, or otherwise in furtherance of the purposes of the Act.

⁶ 15 U.S.C 78s(3)(a).

⁷ 17 CFR 240.19b-4.

IV. Solicitation of Comments

Interested persons are invited to submit written data, views and arguments concerning the foregoing, including whether the proposed rule change is consistent with the Act. Persons making written submissions should file six copies thereof with the Secretary, Securities and Exchange Commission, 450 Fifth Street, NW., Washington, DC 20549-0609. Copies of the submission, all subsequent amendments, all written statements with respect to the proposed rule change that are filed with the Commission, and all written communications relating to the proposed rule change between the Commission and any person, other than those that may be withheld from the public in accordance with the provisions of 5 U.S.C. 552, will be available for inspection and copying in the Commission's Public Reference Room. Copies of such filing will also be available for inspection and copying at the principal office of the PCX. All submissions should refer to file number SR-PCX-2003-33 and should be submitted by August 13, 2003.

For the Commission, by the Division of Market Regulation, pursuant to delegated authority.⁸
⁸ 17 CFR 200.30-3(a)(12).
Margaret H. McFarland,
Deputy Secretary.

[FR Doc. 03-18735 Filed 7-22-03; 8:45 am]

BILLING CODE 8010-01-P